NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 20, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Departmental Administration (N1-16-10-2, 1 item, 1 temporary item). Master files of an electronic information system used to track the management of radiation safety records. Included are permits and approvals to obtain and use radioactive materials or x-ray equipment.

2. Department of Agriculture, Risk Management Agency (N1-258-09-7, 5 items, 5 temporary items). Records relating to legal matters such as appeals and litigation case files, witness request files, sanctions case files, insurance provider litigation cases, and special litigation documentation.

3. Department of the Army, Agency-wide (N1-AU-10-19, 1 item, 1 temporary item). Master files of an electronic information system containing meteorological conditions data for use by field artillery units.

4. Department of the Army, Agency-wide (N1-AU-10-21, 1 item, 1 temporary item). Master files of an electronic information system used to track and manage military mailing operations.

5. Department of the Army, Agency-wide (N1-AU-10-39, 1 item, 1 temporary item). Master files of an electronic information system containing cost estimates and supporting documentation for military construction projects.

6. Department of the Army, Agency-wide (N1-AU-10-42, 1 item, 1 temporary item). Master files of an electronic information system used to provide battle command simulation training for instructors and trainers at the brigade level. Included are budget information, contract data, and training facility requirements.

7. Department of the Army, Agency-wide (N1-AU-10-61, 1 item, 1 temporary item). Master files of an electronic information system used to identify and analyze training requirements.

8. Department of the Army, Agency-wide (N1-AU-10-84, 1 item, 1 temporary item). Master files of an electronic information system containing telecom service information such as billing details, service contracts, and budget data.

9. Department of the Army, Agency-wide (N1-AU-10-87, 1 item, 1 temporary item). Master files of an electronic information system used to track and maintain the serviceability of mobility items. Included are stock transactions, item and shelf life information including price, date of expiration, and condition codes.

10. Department of the Army, Agency-wide (N1-AU-10-88, 1 item, 1 temporary item). Master files of an electronic information system used to automate, combine, and track inventory management functions and associated financial processes. Included are yearly reports, organizational data, and stockade listings.

11. Department of the Army, Agency-wide (N1-AU-10-105, 1 item, 1 temporary item). Master files of an electronic information system used for receipt, issue, replenishment, and storage operations of army supplies. Included are stock management data, asset information, demand history, and electronic transactions.

12. Department of the Army, Agency-wide (N1-AU-11-3, 1 item, 1 temporary item). Master files of an electronic information system used to capture and store financial and manpower data used to formulate budgets and monitor execution.

13. Department of the Army, Agency-wide (N1-AU-11-4, 1 item, 1 temporary item). Master files of an electronic information system containing structure and composition data for conventional munitions.

14. Department of the Army, Agency-wide (N1-AU-11-5, 1 item, 1 temporary item). Master files of an electronic information system used to track the performance, reliability, and safety characteristics of stockpiled ammunition.

15. Department of Defense, Joint Staff (N1-218-10-3, 2 items, 2 temporary items). Master files of an electronic information system used to record assistance provided by the Inspector General, U.S. European Command. Included are narrative details, resolution descriptions, points of contact, and case closure information.

16. Department of Defense, Office of the Secretary of Defense (N1-330-09-2, 2 items, 2 temporary items). Records relating to the National Language Service Corps, including applications, self-assessments, and certification data.

17. Department of Defense, Office of the Secretary of Defense (N1-330-09-8, 3 items, 2 temporary items). Routine interrogation and detainee debriefing case files including video recordings, interrogator notes, and summary reports. Proposed for permanent retention are case files relating to detainees of high value or notoriety.

18. Department of Education, Office of Planning, Evaluation, and Policy Development (N1-441-09-18, 3 items, 3 temporary items). Records of the Family Policy Compliance office, including case files on inquiries and complaints made pursuant to the Family Educational Rights and Privacy Act, the Protection of Pupil Rights Amendment, and the military recruiter provisions of the No Child Left Behind Act of 2001. Also included are master files of an electronic information system used to process and track complaints.

19. Department of Education, Agency-wide (N1-441-09-25, 1 item, 1 temporary item). Records relating to the Computer Matching Agreements used to locate loan recipients who have defaulted on a student loan. Included are agreements, reports, cost-benefit analyses, program procedures, agreement audit records, closeout documentation for completed agreements, and other related records.

20. Department of Health and Human Services, Agency for Healthcare Research and Quality (N1-510-09-2, 1 item, 1 temporary item). Master files of an electronic information system containing information about quality measures used by external sources to assess the degree to which health care services increase the likelihood of desired health outcomes.

21. Department of Health and Human Services, Agency for Healthcare Research and Quality (N1-510-09-3, 1 item, 1 temporary item). Master files of an electronic information system containing information for the public about the innovative strategies that health care providers use to find more effective ways of delivering health care.

22. Department of Health and Human Services, Agency for Healthcare Research and Quality (N1-510-09-4, 2 items, 1 temporary item). Master files of electronic information systems used to collect and disseminate longitudinal hospital care data from participating State and local healthcare organizations. Proposed for permanent retention are non-sensitive aggregate hospital care data sets.

23. Department of Homeland Security, U.S. Coast Guard (N1-26-10-1, 3 items, 3 temporary items). Master files and outputs of an electronic information system used to provide Search and Rescue authorities with accurate information on the positions and characteristics of vessels near a reported distress.

24. Department of Homeland Security, U.S. Immigration and Customs Enforcement (N1-567-10-12, 2 items, 2 temporary items). Master files of an electronic information system containing asset tracking information regarding firearms, scopes, batons, body armor, and related law enforcement equipment.

25. Department of Justice, Federal Bureau of Investigation (N1-65-10-15, 8 items, 7 temporary items). Legal records, including administrative and non-significant legal opinions and advice, legal assistance records, and working files. Proposed for permanent retention are significant program legal advice and opinion files. This schedule does not include litigation case files.

26. Department of Justice, Federal Bureau of Investigation (N1-65-10-26, 8 items, 7 temporary items). Records of the Laboratory Division Hazardous Material Response Team, including internal and external training records and response team files. Proposed for permanent retention are policy files, threat assessments, and hazmat operations.

27. Department of Justice, Federal Bureau of Investigation (N1-65-10-36, 4 items, 4 temporary items). Master files, outputs, audit logs, and administrative records of an electronic information system containing intelligence and investigative data.

28. Department of State, Bureau of Administration (N1-59-10-21, 3 items, 3 temporary items). Records associated with a Web site and television channel that broadcast content about the Department of State to employees. Records include an intranet site containing video clips; master files of a content management system used to catalog video clips for the Web site; and a video clip collection. Substantive video clips have been previously approved as permanent.

29. Department of Transportation, Federal Aviation Administration (N1-237-10-17, 5 items, 2 temporary items). Inputs and outputs of an electronic information system containing lessons learned from transport airplane accidents. Proposed for permanent retention are system master files and system documentation.

30. Export-Import Bank of the United States, Agency-wide (N1-275-10-3, 1 item, 1 temporary item). Master files of an electronic information system used by the public to file claim applications.

31. Social Security Administration, Agency-wide (N1-047-10-1, 1 item, 1 temporary item). Master files of an electronic information system used to track administrative forms.

Dated: November 12, 2010.
Michael J. Kurtz,
Assistant Archivist for Records Services—Washington, DC.

[FR Doc. 2010-29233 Filed 11-17-10; 8:45 am]

BILLING CODE 7515-01-P